FEDERAL COMMUNICATIONS COMMISSION

47 CFR Part 73

[DA 06-112; MB Docket No. 04-277, RM-11034; MB Docket No. 04-278, RM-11035]

Radio Broadcasting Services; Ringwood, OK and Taos Pueblo, NM

AGENCY: Federal Communications Commission.

ACTION: Final rule.

SUMMARY: The Audio Division, at the request of Charles Crawford allots Channel 285A at Ringwood, Oklahoma, as the community's first local aural transmission service in MB Docket No. 04-277; RM-11034. See 69 FR 46474, published August 3, 2004. Channel 285A can be allotted to Ringwood in compliance with the Commission's minimum distance separation requirements, provided there is a site restriction of 10.0 kilometers (6.2 miles) northeast of the community. The reference coordinates for Channel 285A at Ringwood are 36-26-13 North Latitude and 98-09-31 West Longitude. In addition, the Audio Division at the request of Dana J. Puopolo, allots Channel 292C3 at Taos Pueblo, New Mexico, as the community's first local aural transmission service in MB Docket No. 04-278; RM-11035. See 69 FR 46474, published August 3, 2004. Channel 292C3 can be allotted to Taos Pueblo in compliance with the Commission's minimum distance separation requirements at city reference coordinates 36-26-19 North Latitude and 105-32-38 West Longitude. Filing windows for Channel 285A at Ringwood, Oklahoma and Channel 292C3 at Taos Pueblo, New Mexico, will not be opened at this time. Instead, the issue of opening a filing window for these channels will be addressed by the Commission in a subsequent order.

DATES: Effective March 6, 2006.

ADDRESSES: Federal Communications Commission, 445 Twelfth Street, SW., Washington, DC

FOR FURTHER INFORMATION CONTACT: Helen McLean, Media Bureau, (202) 418-2738.

SUPPLEMENTARY INFORMATION: This is a synopsis of the Commission's Report and Order, MB Docket Nos. 04-277 and 04-278, adopted January 18, 2006, and released January 20, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under New Mexico, is amended by adding Taos Pueblo, Channel 292C3.

3. Section 73.202(b), the Table of FM Allotments under Oklahoma, is amended by adding Ringwood, Channel 285A.

Federal Communications Commission.
John A. Karousos,
Assistant Chief, Audio Division, Media Bureau.

[FR Doc. 06-1060 Filed 2-7-06; 8:45 am]

BILLING CODE 6712-01-P